DEPARTMENT OF AGRICULTURE

Foreign Agricultural Service

Trade Adjustment Assistance for Farmers

AGENCY: Foreign Agricultural Service, USDA.

ACTION: Notice.

The Administrator, Foreign Agricultural Service (FAS), today accepted a petition filed by the Georgia Shrimp Association, Darien, Georgia, for trade adjustment assistance. The group represents Georgia shrimpers of wild, ocean caught shrimp. The Administrator will determine within 40 days whether or not imports of shrimp contributed importantly to a decline in domestic producer prices of 20 percent or more during the marketing period beginning January 2002 and ending December 2002. If the determination is positive, all producers represented by the group will be eligible to apply to the Farm Service Agency for technical assistance at no cost and adjustment assistance payments.

FOR FURTHER INFORMATION CONTACT: Jean-Louis Pajot, Coordinator, Trade Adjustment Assistance for Farmers, FAS, USDA, (202) 720-2916, email: trade.adjustment@fas.usda.gov.

Dated: October 8, 2003.
A. Ellen Terpstra,
Administrator, Foreign Agricultural Service.

[FR Doc. 03-26521 Filed 10-20-03; 8:45 am]

BILLING CODE 3410-10-M